CORPORATION FOR NATIONAL AND COMMUNITY SERVICE

Agency Information Collection Activities; Submission to the Office of Management and Budget for Review and Approval; Comment Request; Application Package for National Service Trust AmeriCorps Voucher and Payment Request Form/National Service Trust AmeriCorps—Manual Payment Request Form; Proposed Information Collection; Comment Request

AGENCY: Corporation for National and Community Service (CNCS).

ACTION: Notice.

SUMMARY: The Corporation for National and Community Service (CNCS) has submitted a public information collection request (ICR) entitled National Service Trust AmeriCorps Voucher and Payment Request Form/National Service Trust AmeriCorps—Manual Payment Request Form for review and approval in accordance with the Paperwork Reduction Act.

DATES: Comments may be submitted, identified by the title of the information collection activity, by October 11, 2019.

ADDRESSES: Direct written comments and/or suggestions regarding the items contained in this Notice to the Attention: CNCS Desk Officer, Office of Information and Regulatory Affairs, Office of Management and Budget, 725 17th Street NW, Washington, DC 20503 or by fax to (202) 395-5806. Provide written comments within 30 days of Notice publication.

FOR FURTHER INFORMATION CONTACT: Copies of this ICR, with applicable supporting documentation, may be obtained by calling the Corporation for National and Community Service, Nahid Jarrett, at 202-606-6753 or email to njarrett@cns.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on June 18, 2019 at Vol. 84, No. 117 FR 28284. This comment period ended August 19, 2019. No public comments were received from this Notice.

Title of Collection: National Service Trust AmeriCorps Voucher and Payment Request Form/National Service Trust AmeriCorps—Manual Payment Request Form.

OMB Control Number: 3045-0014.

Type of Review: Renewal.

Respondents/Affected Public: Individuals using a Segal AmeriCorps Education Award, authorized school officials and qualified student loan holders.

Total Estimated Number of Annual Responses: 162,000.

Total Estimated Number of Annual Burden Hours: 13,500.

Cost to the Government: 23,000.

Abstract: The National Service Trust AmeriCorps Voucher and Payment Form/National Service Trust AmeriCorps—Manual Payment Request Form is used to make payments to repay qualified student loans and to pay for the cost of attending eligible post-secondary educational institutions and approved School-to-Work programs. Prior to making the payments, CNCS will review information from the forms and compare it to information taken from the AmeriCorps members' education award account(s) to ensure that the payments meet the requirements of the law. This information collection is not required to be considered for obtaining grant funding support. CNCS seeks to renew the current information collection. The information collection will otherwise be used in the same manner as the existing application. CNCS also seeks to continue using the current application until the revised application is approved by OMB. The current application expired on August 31, 2019.

Dated: September 3, 2019.
Jerry Prentice,
Director of the National Service Trust.

[FR Doc. 2019-19625 Filed 9-10-19; 8:45 am]

BILLING CODE 6050-28-P